ENVIRONMENTAL PROTECTION AGENCY

[FRL-10002-34-OW]

Notice of Request for Nominations of Candidates to the Environmental Financial Advisory Board

AGENCY: Environmental Protection Agency (EPA).

ACTION: Notice of request for nominations of candidates to the Environmental Financial Advisory Board.

SUMMARY: The U.S. Environmental Protection Agency (EPA) invites nominations of qualified candidates to be considered for appointment to the Environmental Financial Advisory Board (EFAB or the Board). The Board provides advice to the EPA on ways to lower the costs of, and increase investments in, environmental and public health protection. Appointments will be made by the Administrator and will be announced in June 2020.

DATES: Nominations should be submitted in time to arrive no later than January 6, 2020.

ADDRESSES: Nominations should be sent via email to sanzone.stephanie@epa.gov (preferred) or by mail to U.S. Environmental Protection Agency, Water Infrastructure and Resiliency Finance Center (4202M), 1200 Pennsylvania Ave. NW, Washington, DC 20460.

FOR FURTHER INFORMATION CONTACT: Any member of the public who wants further information concerning the nomination process may contact Stephanie Sanzone, membership coordinator, via telephone/voice mail (202) 564-2839, or email at sanzone.stephanie@epa.gov. General information concerning the EFAB can be found on the EPA website at https://www.epa.gov/waterfinancecenter/efab.

SUPPLEMENTARY INFORMATION: Background: The EFAB is an EPA advisory committee chartered under the Federal Advisory Committee Act (FACA), 5 U.S.C. App. 2, to provide advice and recommendations to the EPA on innovative approaches to financing environmental programs, projects and activities. Administrative support for the EFAB is provided by the Water Infrastructure and Resiliency Finance Center within EPA's Office of Water. The Board was established in 1989 to provide advice and recommendations to the EPA on the following issues: Reducing the cost of financing environmental facilities and discouraging polluting behavior; creating incentives to increase private investment in the provision of environmental services and removing or reducing constraints on private involvement imposed by current regulations; developing new and innovative environmental financing approaches and supporting and encouraging the use of cost-effective existing approaches; identifying approaches specifically targeted to small/disadvantaged community financing; increasing the capacity of state and local governments to carry out their respective environmental programs under current Federal tax laws; analyzing how new technologies can be brought to market expeditiously; and increasing the total investment in environmental protection of public and private environmental resources to help ease the environmental financing challenge facing our nation.

The Board meets in-person two times each calendar year (two days per meeting) at different locations within the continental United States. In addition to the bi-annual meetings, teleconference meetings may be held during the year to ensure timely completion of the Board's work. Board members typically contribute approximately 5 to 8 hours per month to the activities of the Board. Members serve on the Board without compensation; however, Board members may receive travel and per diem allowances where appropriate and in accordance with Federal Travel Regulations.

Members are appointed to represent the perspective of specific organizations, associations or groups of persons (Representative members) or to provide their individual expertise (Special Government Employee, or SGE, members).

Candidates invited to serve as SGE members will be asked to submit the “Confidential Financial Disclosure Form for Environmental Protection Agency Special Government Employees” (EPA Form 3110-48). This confidential form allows the EPA to determine whether there is a statutory conflict between that person's public responsibilities as an SGE member and private interests and activities, or the appearance of a loss of impartiality as defined by Federal regulation. The form may be viewed at https://www.epa.gov/waterfinancecenter/efab, but this form should not be submitted as part of a nomination.

Experience and Expertise Sought for the EFAB: The Board seeks to maintain diverse representation across all workforce sectors (local/state/tribal government, business (industry and finance), and nonprofit organizations) and geographic regions of the United States. Nominees should demonstrate experience in environmental finance and/or reducing the cost of financing environmental protection in various environmental media (water, land and air). Experience and expertise sought include, but are not limited to, the following areas: Brownfields; commercial banking; energy efficiency; environmental and financial resiliency; infrastructure financing; insurance markets; local utility management and finance; public-public and public-private partnerships; regulators; resource conservation; sustainable community partnerships; and water and wastewater utility financial management.

EPA values and welcomes diversity. In an effort to obtain nominations of diverse candidates, EPA encourages nominations of women and men of all racial and ethnic groups. In addition to this notice, other sources may be utilized in the solicitation of nominees. The deadline for receiving nominations is Monday, January 6, 2020. Appointments will be made by the Administrator of the Environmental Protection Agency and will be announced in June 2020. Nominee qualifications will be assessed under the mandates of the FACA, which requires that committees be balanced in terms of the points of view represented and the functions to be performed; for the Board, this balance includes diversity across a broad range of constituencies, sectors and groups.

How to Submit Nominations: Any interested person or organization may nominate qualified persons to be considered for appointment to the EFAB. Individuals may self-nominate. Nominations should be submitted via email to sanzone.stephanie@epa.gov (preferred) or mailed to the address above. Nominations should include the following information: Contact information for the person making the nomination; contact information for the nominee (if different), including full name and title, business mailing address, telephone and email address; the specific areas of experience or expertise of the nominee; the nominee's curriculum vitae or resume; and a biographical sketch of the nominee indicating current position and recent service on other national advisory committees or national professional organizations. A supporting letter of endorsement is encouraged, but not required.

Evaluation Criteria: The following criteria will be used to evaluate nominees: Residence in the continental United States; professional knowledge of, and experience with, environmental financing activities; senior level-experience that fills a gap in Board representation or brings a new and relevant dimension to its deliberations; demonstrated ability to work in a consensus-building process with a wide range of representatives from diverse constituencies; and willingness to serve a two or three-year term as an active and contributing member, with possible re-appointment to a second term. Under EPA policy, members of EPA advisory committees may not be in receipt of (or reap substantial direct benefit from) an EPA grant; this policy does not apply to state, tribal or local government agency recipients of EPA grants.

Dated: November 7, 2019.
Andrew Sawyers,
Director, Office of Wastewater Management, Office of Water.

[FR Doc. 2019-25056 Filed 11-18-19; 8:45 am]

BILLING CODE 6560-50-P